DEPARTMENT OF TRANSPORTATION

Federal Aviation Administration

Notice of Opportunity for Public Comment on a Proposed Change of Airport Property Land Use From Aeronautical to Non-Aeronautical Use at the Myrtle Beach International Airport, Myrtle Beach, South Carolina

AGENCY: Federal Aviation Administration (FAA), DOT.

ACTION: Notice.

SUMMARY: The FAA is considering a request from the Horry County, Department of Airports to change approximately 17 acres of airport property located on the southeastern portion of the Myrtle Beach International Airport from aeronautical use to non-aeronautical use. The airport will retain ownership of this parcel while establishing a land lease for a solar panel farm. Currently, ownership of the property provides protection of FAR Part 77 surfaces and compatible land use.

DATES: Comments must be received on or before June 10, 2019.

ADDRESSES: Comments on this notice may be mailed or delivered in triplicate to the FAA at the following address:

Atlanta Airports District Office, Attn: Rob Rau, Planning Team Lead, 1701 Columbia Ave., Suite 220, Atlanta, GA 30337-2747.

In addition, one copy of any comments submitted to the FAA must be mailed or delivered to Ryan Betcher, Director of General Aviation and Properties, Horry County Department of Airports at the following address:

1100 Jetport Road, Myrtle Beach, SC 29577.

FOR FURTHER INFORMATION CONTACT: Rob Rau, Planning Team Lead, Atlanta Airports District Office, 1701 Columbia Ave., Suite 220, Atlanta, GA 30337-2747, (404) 305-6799. The application may be reviewed in person at this same location.

SUPPLEMENTARY INFORMATION: The FAA is reviewing a request by the Horry County Department of Airports to release approximately 17 acres of airport property at the Myrtle Beach International Airport. The land is currently owned and operated by the airport, but not currently in use or planned for aeronautical use. The property will be leased with intent to install a solar panel farm. The proceeds from the lease of this property will be used for airport purposes.

Any person may inspect the request in person at the FAA office listed above under FOR FURTHER INFORMATION CONTACT.

In addition, any person may, upon request, inspect the request, notice and other documents germane to the request in person at the Myrtle Beach International Airport.

Issued in Atlanta, Georgia, on May 3, 2019.
Larry F. Clark,
Manager, Atlanta Airports District Office, Southern Region.

[FR Doc. 2019-09584 Filed 5-8-19; 8:45 am]

BILLING CODE 4910-13-P